POSTAL REGULATORY COMMISSION

[Docket No. CP2010-14; Order No. 356]

New Postal Product

AGENCY: Postal Regulatory Commission.

ACTION: Notice.

SUMMARY: The Commission is noticing a recently-filed Postal Service filing to add a new Global Expedited Packages Services 2 product to the Competitive Product List. This notice addresses procedural steps associated with the filing.

DATES: Comments are due: December 21, 2009.

ADDRESSES: Submit comments electronically via the Commission's Filing Online system at http://www.prc.gov. Commenters who cannot submit their views electronically should contact the person identified in “FOR FURTHER INFORMATION CONTACT”by telephone for advice on alternatives to electronic filing.

FOR FURTHER INFORMATION CONTACT: Stephen L. Sharfman, General Counsel, 202-789-6820 or stephen.sharfman@prc.gov.

SUPPLEMENTARY INFORMATION:

I. Introduction

II. Notice of Filing

III. Ordering Paragraphs

I. Introduction

On December 10, 2009, the Postal Service filed a notice announcing that it has entered into an additional Global Expedited Package Services 2 (GEPS 2) contract.¹

¹ Notice of United States Postal Service Filing of Functionally Equivalent Global Expedited Package Services 2 Negotiated Service Agreement and Application for Non-Public Treatment of Materials Filed Under Seal, December 10, 2009 (Notice).

GEPS 2 provides volume-based incentives for mailers that send large volumes of Express Mail International (EMI) and/or Priority Mail International (PMI). The Postal Service believes the instant contract is functionally equivalent to the previously submitted GEPS 2 contracts and is supported by the Governors' Decision filed in Docket No. CP2008-4.² Id. at 1.

² See Docket No. CP2008-4, Notice of United States Postal Service of Governors' Decision Establishing Prices and Classifications for Global Expedited Package Services Contracts, May 20, 2008.

The instant contract. The Postal Service filed the instant contract pursuant to 39 CFR 3015.5. In addition, the Postal Service contends that the contract is in accordance with Order No. 290.³ The term of the instant contract is 1 year from the date the Postal service notifies the customer that all necessary regulatory approvals have been received. Notice at 2.

³ See Docket No. CP2009-50, Order Granting Clarification and Adding Global Expedited Package Services 2 to the Competitive Product List, August 28, 2009 (Order No. 290).

In support of its Notice, the Postal Service filed four attachments as follows:

1. Attachment 1-an application for non-public treatment of materials to maintain the contract and supporting documents under seal;

2. Attachment 2-a redacted copy of Governors' Decision No. 08-7 which establishes prices and classifications for GEPS contracts, a description of applicable GEPS contracts, formulas for prices, an analysis and certification of the formulas and certification of the Governors' vote;

3. Attachment 3-a redacted copy of the contract, applicable annexes, and a provision to modify the mailer's tender requirements; and

Attachment 4-a certified statement required by 39 CFR 3015.5(c)(2).

Functional equivalency. The Postal Service asserts that the instant contract is functionally equivalent to the contract in Docket No. CP2009-50 and prior GEPS 2 contracts. Id. at 3-4. It also contends that the instant contract meets the requirements of Governors' Decision No. 08-7 for rates for GEPS contracts. Id. at 3. The Postal Service indicates that the instant contract differs from the contract in Docket No. CP2009-50 in two ways, namely, (a) Customer specific information, e.g., the customer's name, address, and provisions clarifying tender locations; and (b) revisions intended to be included in all subsequent agreements. Id. at 3-4. The latter revisions address, for example, the treatment of confidential information and the availability of pickup service.⁴

⁴ Id. at 4-5. The Postal Service filed revisions to the agreement under seal regarding certain Articles. It is not apparent that the revised provisions should be filed as non-public. Therefore, the Postal Service shall promptly file the revised provisions as public or provide justification for their treatment as non-public.

The Postal Service contends that the instant contract satisfies the pricing formula and classification system established in Governors' Decision No. 08-7. Id. 2-3. It asserts that the instant contract and all GEPS 2 contracts have similar cost and market characteristics and is functionally equivalent in all relevant aspects. Id. at 5. The Postal Service concludes that this contract is in compliance with 39 U.S.C. 3633, and requests that this contract be included within the GEPS 2 product. Id.

II. Notice of Filing

The Commission establishes Docket No. CP2010-14 for consideration of matters related to the contract identified in the Postal Service's Notice.

Interested persons may submit comments on whether the Postal Service's contract is consistent with the policies of 39 U.S.C. 3632, 3633, or 3642 and 39 CFR part 3015. Comments are due no later than December 21, 2009. The public portions of these filings can be accessed via the Commission's Web site (http://www.prc.gov).

The Commission appoints Paul L. Harrington to serve as Public Representative in this proceeding.

III. Ordering Paragraphs

It is ordered:

1. The Commission establishes Docket No. CP2010-14 for consideration of the issues raised in this docket.

2. Comments by interested persons in these proceedings are due no later than December 21, 2009.

3. Pursuant to 39 U.S.C. 505, Paul L. Harrington is appointed to serve as officer of the Commission (Public Representative) to represent the interests of the general public in this proceeding.

4. The Postal Service shall promptly clarify the revisions to the contract as set forth in this order.

5. The Secretary shall arrange for publication of this order in the Federal Register.

By the Commission.
Shoshana M. Grove,
Secretary.

[FR Doc. E9-30073 Filed 12-17-E9; 8:45 am]

BILLING CODE 7710-FW-S